DEPARTMENT OF DEFENSE

Department of the Navy

Notice of Availability of a Draft Supplemental Environmental Impact Statement/Supplemental Overseas Environmental Impact Statement for Surveillance Towed Array Sensor System Low Frequency Active (SURTASS LFA) Sonar

AGENCY: Department of the Navy, DoD.

ACTION: Notice.

SUMMARY: Pursuant to the National Environmental Policy Act as implemented by the Council on Environmental Quality regulations (40 CFR parts 1500-1508) and Executive Order 12114, the Department of the Navy (DoN) has prepared and filed with the U.S. Environmental Protection Agency (USEPA) a Draft Supplemental Environmental Impact Statement/Supplemental Overseas Environmental Impact Statement (Draft SEIS/SOEIS) to analyze the potential impact of SURTASS LFA sonar on the five common bottlenose dolphin stocks comprising the Hawaiian Islands Stock Complex (Kauai/Niiahu, Oahu, 4-Islands, Hawaii Island, and Hawaii Pelagic). USEPA published their notice of availability of the SURTASS LFA sonar draft supplement on October 24, 2014 (79 FR 63622).

DATES: Public comment period will end on December, 8, 2014.

ADDRESSES: Written comments on the SURTASS LFA Sonar Draft SEIS/SOEIS should be addressed to: SURTASS LFA Sonar SEIS/SOEIS Program Manager, 4201 Wilson Blvd. #110-185, Arlington, Virginia 22203; or email: eisteam@surtass-lfa-eis.com.

FOR FURTHER INFORMATION CONTACT: Chief of Naval Operations, Code N2/N6F24, c/o SURTASS LFA Sonar SEIS/SOEIS Program Manager, 4201 Wilson Blvd. #110-185, Arlington, Virginia 22203; or email: eisteam@surtass-lfa-eis.com.

SUPPLEMENTARY INFORMATION: Although the most recent Final SEIS/SOEIS for SURTASS LFA sonar was completed in June 2012, during subsequent litigation (Natural Resources Defense Council, Inc. et al. v. Pritzger et al., No. 12-cv-05380-EDL [E.D. Cal. October 18, 2012]), the court found that the SEIS/SOEIS was deficient in one limited respect in that the DoN failed to use the best available data from the 2010 Pacific Stock Assessment Report to analyze the potential impact of SURTASS LFA sonar on the individual stocks that comprise the Hawaiian Islands Stock Complex of common bottlenose dolphins. The court upheld the current SEIS/SOEIS in all other respects. The Draft SEIS/SOEIS in this notice was prepared for the limited purpose of addressing the single deficiency identified by the court.

The Draft SEIS/SOEIS has been distributed to appropriate Federal and state government agencies and officials and other interested parties. In addition, copies of the Draft SEIS/SOEIS have been distributed to the following regional libraries for public review:

1. Hawaii Documents Center, Hawaii State Library, 478 South King St, Honolulu, HI 96813.

2. Kaneohe Public Library, 45-829 Kamehameha Highway, Kaneohe, HI 96744.

3. Hilo Public Library, 300 Waianuenue Ave, Hilo, HI 96720.

4. Wailuku Public Library, 251 High St, Wailuku, HI 96793.

5. Lihue Public Library, 4344 Hardy St, Lihue, HI 96766.

The Draft SEIS/SOEIS is available for public viewing and downloading at: http://www.surtass-lfa-eis.com. CD copies of the Draft SEIS/SOEIS are available upon request from: SURTASS LFA Sonar SEIS/SOEIS Program Manager, 4201 Wilson Blvd. #110-185, Arlington, Virginia 22203; or email: eisteam@surtass-lfa-eis.com.

Written comments on the Draft SEIS/SOEIS can be submitted by mail: SURTASS LFA Sonar SEIS/SOEIS Program Manager, 4201 Wilson Blvd. #110-185, Arlington, Virginia 22203; or email: eisteam@surtass-lfa-eis.com. All written comments must be postmarked by December 8, 2014 to ensure that they become part of the official record. All timely comments will be addressed in the Final SEIS/SOEIS. No public hearings or meetings will be held.

Dated: October 27, 2014.
N. A. Hagerty-Ford,
Commander, Judge Advocate General's Corps, U.S. Navy, Federal Register Liaison Officer.

[FR Doc. 2014-26035 Filed 10-31-14; 8:45 am]

BILLING CODE 3810-FF-P